DEPARTMENT OF LABOR

Employment and Training Administration

TA-W-63,164

SB Acquisition, LLC, d/b/a Saunders Brothers, Fryeburg, ME; Notice of Termination of Investigation

Pursuant to Section 221 of the Trade Act of 1974, as amended, an investigation was initiated on April 9, 2008 in response to a worker petition filed by the Maine State Workforce Office on behalf of workers at SB Acquisition, LLC, d/b/a Saunders Brothers, Fryeburg, Maine.

The petitioner has requested that the petition be withdrawn. Consequently, the investigation has been terminated.

Signed in Washington, DC, this 29th day of July 2008.
Linda G. Poole,
Certifying Officer, Division of Trade Adjustment Assistance.

[FR Doc. E8-18167 Filed 8-6-08; 8:45 am]

BILLING CODE 4510-FN-P